DEPARTMENT OF COMMERCE

National Institute of Standards and Technology

National Advanced Spectrum and Communications Test Network: Citizens Broadband Radio Service Sharing Ecosystem Assessment Test Plan Community Outreach

AGENCY: National Institute of Standards and Technology, Department of Commerce.

ACTION: Notice of open meeting.

SUMMARY: The National Advanced Spectrum and Communications Test Network (NASCTN) is hosting a public meeting on NASCTN's test plan for collecting Citizen Broadband Radio Service (CBRS) emissions in `Coastal' Dynamic Protection Areas (DPAs), on September 10, 2024, from 10 a.m.-12 p.m. mountain standard time. The purpose of this meeting is to brief Federal, industry, and academic stakeholders and interested parties from the public on the details and approach to collecting CBRS emissions for one of the two main tasks of the NASCTN CBRS Sharing Ecosystem Assessment (SEA) project.

DATES: The NASCTN meeting on the CBRS SEA Project Always-On DPA CBRS emission collection test plan will take place September 10, 2024 from 10 a.m.-12 p.m. mountain standard time.

ADDRESSES: The meeting will be held virtually via web conference from the NIST campus, in Boulder, CO. For instructions on how to participate in the meeting, please see the SUPPLEMENTARY INFORMATION section of this notice.

FOR FURTHER INFORMATION CONTACT: Keith Hartley at NASCTN@nist.gov, keith.hartley@nist.gov, or 719.572.8256.

SUPPLEMENTARY INFORMATION: The NASCTN CBRS SEA project seeks to provide data-driven insight into the CBRS sharing ecosystem's effectiveness between CBRS and DoD systems, and to track changes in the spectrum environment over time via two primary tasks: (1) Measure Aggregate CBRS Emissions and Noise Floor in Coastal DPAs and (2) Measure Aggregate Emissions in Always-On DPAs.

NASCTN is hosting a virtual public meeting on the CBRS SEA project's Coastal DPA CBRS emission collection test plan on September 10, 2024 from 10 a.m.-12 p.m. mountain standard time. The purpose of this meeting is to brief federal, industry, and academic stakeholders and interested parties from the public on the details and approach to collecting CBRS emissions for task 1 of the two main tasks of the NASCTN CBRS SEA project.

Approximately 30 minutes will be allocated for public comments and questions with speaking times assigned on a first-come, first-served basis. Public comments can be provided via web conference attendance, or email. The amount of time per speaker will be determined by the number of requests received. Speakers who wish to expand upon their questions or statements, those who wish to speak but cannot be accommodated during the meeting, and those who are unable to attend are invited to submit written statements by email to NASCTN@nist.gov or keith.hartley@nist.gov. Please note that all submitted comments will be treated as public documents.

Anyone wishing to attend this meeting via web conference must register by 5 p.m. mountain standard time, August 30, 2024. Please submit your full name, email address, and phone number to Keith Hartley at NASCTN@nist.gov or keith.hartley@nist.gov.

Authority: 15 U.S.C. 278t.

Alicia Chambers,
NIST Executive Secretariat.

[FR Doc. 2024-17207 Filed 8-2-24; 8:45 am]

BILLING CODE 3510-13-P